FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 29, 2004.

A. Federal Reserve Bank of Atlanta (Sue Costello, Vice President) 1000 Peachtree Street, N.E., Atlanta, Georgia 30303:

1. Evan R. Marbin, North Miami Beach, Florida, individually and as trustee of The SEE Trust, Miami, Florida, The SEE Trust, Miami, Florida, and Sherrie Marbin, North Miami Beach, Florida, to retain voting shares of Transatlantic Bank, Miami, Florida.

B. Federal Reserve Bank of Kansas City (Donna J. Ward, Assistant Vice President) 925 Grand Avenue, Kansas City, Missouri 64198-0001:

1. Charles W. Masner and Ella C. Masner, both of Anthony, Kansas; to acquire control of Olathe Bancorporation, Inc., and thereby indirectly acquire control of Olathe State Bank, both in Olathe, Colorado.

Board of Governors of the Federal Reserve System, December 9, 2004.
Robert deV. Frierson,
Deputy Secretary of the Board.

[FR Doc. 04-27475 Filed 12-14-04; 8:45 am]

BILLING CODE 6210-01-S